DEPARTMENT OF AGRICULTURE

Animal and Plant Health Inspection Service

[Docket No. APHIS-2022-0006]

Notice of Request for Revision to and Extension of Approval of an Information Collection; Horse Protection Regulations

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the Horse Protection Program and enforcement of the Horse Protection Act.

DATES: We will consider all comments that we receive on or before May 9, 2022.

ADDRESSES: You may submit comments by either of the following methods:

• Federal eRulemaking Portal: Go to www.regulations.gov. Enter APHIS-2022-0006 in the Search field. Select the Documents tab, then select the Comment button in the list of documents.

• Postal Mail/Commercial Delivery: Send your comment to Docket No. APHIS-2022-0006, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the Horse Protection Act Regulations, contact Dr. Lance Bassage, Director, National Policy Staff, Animal Care, APHIS 4700 River Road, Unit 84, Riverdale, MD 20737; (585) 944-1306. For information on the information collection reporting process, contact Mr. Joseph Moxey, APHIS' Paperwork Reduction Act Coordinator, at (301) 851-2483; joseph.moxey@usda.gov.

SUPPLEMENTARY INFORMATION: Title: Horse Protection Regulations.

OMB Control Number: 0579-0056.

Type of Request: Revision to and extension of approval of an information collection.

Abstract: The Horse Protection Act (HPA) of 1970 (Pub. L. 91-540), as amended July 13, 1976 (Pub. L. 94-360), was enacted to prevent showing, exhibiting, selling, or auctioning of “sore” horses, and certain transportation of sore horses in connection therewith, at horse shows, horse exhibitions, horse sales, and horse auctions. “Soring” is a process whereby chemical or mechanical agents, or a combination thereof, are applied to the limbs(s) of a horse in order to exaggerate its gait(s). A “sore” horse is one that has been subjected to prohibited practices and, as a result, suffers, or can reasonably be expected to suffer, physical pain or distress, inflammation, or lameness when walking, trotting or otherwise moving. A horse that is “sore” is prohibited from entering or participating in HPA-regulated events because exhibitors, owners, and trainers of such horse may obtain unfair advantage over individuals exhibiting horses that are not “sore.”

Section 1828 of the HPA authorizes the promulgation of regulations to implement the provisions of the Act. Those regulations are found in 9 CFR part 11. The regulations delineate procedures relative to three processes: (1) Certification of licensing programs for Designated Qualified Persons (DQPs) that are operated by Horse Industry Organizations (HIOs). Managers and operators of HPA-regulated events may appoint and retain the services of DQPs to inspect and detect a horse that is sore or otherwise noncompliant with the HPA; (2) responsibilities and liabilities of management; and (3) prohibitions and requirements concerning persons involved in transportation of certain horses.

An HIO wishing to certify a program to license DQPs to inspect horses for compliance under the HPA must satisfy and abide by the requirements of the HPA and regulations. After requesting and receiving U.S. Department of Agriculture certification from the Animal and Plant Health Inspection Service (APHIS), HIOs must maintain an acceptable DQP program and recordkeeping systems. The responsibilities of HIOs, DQPs, event management, and horse transporters are outlined in the regulations.

APHIS works with HIOs on an ongoing basis to oversee their performance under the HPA. Throughout the year, APHIS uses training sessions, conference calls, and open letters to HIOs, event managers, exhibitors, owners, trainers, custodians, and farriers involved in HPA-covered activities to provide communication and feedback to address issues and strengthen enforcement under the Act. Data collected throughout the year from within APHIS and from the HIOs and event management provide an account of the HIOs' performance and progress toward eliminating the soring of horses and promoting fair competition. HIOs, through their certified licensing programs for DQPs, provide the primary means of detecting sored horses.

The regulations in 9 CFR part 12 provide the Rules of Practice applicable to adjudicatory, administrative proceedings under § 1825(a), (b), and (c) of the HPA. Subpart A incorporates the Uniform Rules of Practice promulgated in subpart H of 7 CFR part 1. Subpart B sets forth Supplemental Rules of Practice allowing stipulations in settlement of particular matters if specified procedures are followed.

We are asking the Office of Management and Budget (OMB) to approve our use of these information collection activities, as described, for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 1.17 hours per response.

Estimated annual number of respondents: 442.

Estimated annual number of responses per respondent: 6.

Estimated annual number of responses: 2,258.

Estimated total annual burden on respondents: 2,650 hours. (Due to averaging, the total annual burden hours may not equal the product of the annual number of responses multiplied by the reporting burden per response.)

All responses to this notice will be summarized and included in the request for OMB approval. All comments will also become a matter of public record.

Done in Washington, DC, this 2nd day of March 2022.
Anthony Shea,
Administrator, Animal and Plant Health Inspection Service.

[FR Doc. 2022-04791 Filed 3-7-22; 8:45 am]

BILLING CODE 3410-34-P